DEPARTMENT OF COMMERCE

International Trade Administration

Announcement of Winter 2021 Approved International Trade Administration Trade Missions

AGENCY: International Trade Administration, Department of Commerce.

SUMMARY: The United States Department of Commerce, International Trade Administration (ITA), is announcing five upcoming trade missions that will be recruited, organized, and implemented by ITA. These missions are:

• U.S. Industry Program to the International Atomic Energy Agency (IAEA) General Conference—9/19/2021-9/22/2021

• U.S. Environmental Technologies Trade Mission to Latin America—10/21/2021-10/29/2021

• Digital Transformation Trade Mission to the Gulf Region—10/24/2021-10/28/2021

• Trade Mission to South America Region in Conjunction with Trade Americas—Business Opportunities in South America Conference—12/5/2021-12/10/2021

• Clean Air Trade Mission to India—5/2/2022-5/5/2022

A summary of each mission is found below. Application information and more detailed mission information, including the commercial setting and sector information, can be found at the trade mission website: https://www.trade.gov/trade-missions.

For each mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Gemal Brangman, Trade Promotion Programs, Industry and Analysis, International Trade Administration, U.S. Department of Commerce, 1401 Constitution Avenue NW, Washington DC 20230; telephone (202) 482-3773 or email Gemal.Brangman@trade.gov.

The Following Conditions for Participation Will Be Used for Each Mission:

Applicants must submit a completed and signed mission application and supplemental application materials, including adequate information on their products and/or services, primary market objectives, and goals for participation to allow the Department of Commerce to evaluate their application. If the Department of Commerce receives an incomplete application, the Department may either: Reject the application, request additional information/clarification, or take the lack of information into account when evaluating the application. If the requisite minimum number of participants is not selected for the mission by the recruitment deadline, the mission may be cancelled.

Each applicant must also certify that the products and services it seeks to export through the mission are either produced in the United States, or, if not, are marketed under the name of a U.S. firm and have at least 51% U.S. content by value. In the case of an organization, the applicant must certify that, for each entity to be represented by the organization, the products and/or services the represented firm or service provider seeks to export are either produced in the United States or, if not, marketed under the name of a U.S. firm and have at least 51% U.S. content.

An organization applicant must certify to the above for all of the companies it seeks to represent on the mission.

In addition, each applicant must:

• Certify that the export of products and services that it wishes to market through the mission is in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for Each Mission:

Targeted mission participants are U.S. firms, services providers and organizations (universities, research institutions, or financial services trade associations) providing or promoting U.S. products and services that have an interest in entering or expanding their business in the mission's destination country. The following criteria will be evaluated in selecting participants:

• Suitability of the applicant's (or in the case of an organization, represented firm's or service provider's) products or services to these markets;

• The applicant's (or in the case of an organization, represented firm's or service provider's) potential for business in the markets, including likelihood of exports resulting from the mission; and

• Consistency of the applicant's (or in the case of an organization, represented firm's or service provider's) goals and objectives with the stated scope of the mission.

Balance of applicant's size and location may also be considered during the review process.

Referrals from a political party or partisan political group or any information, including on the application, containing references to political contributions or other partisan political activities will be excluded from the application and will not be considered during the selection process. The sender will be notified of these exclusions.

Trade Mission Participation Fees:

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas. Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/travel/en/traveladvisories/traveladvisories.html/. Any question regarding insurance coverage must be resolved by the participant and its insurer of choice.

Definition of Small- and Medium-Sized Enterprise

For purposes of assessing participation fees, an applicant is a small or medium-sized enterprise (SME) if it qualifies under the Small Business Administration's (SBA) size standards (https://www.sba.gov/document/support—table-size-standards), which vary by North American Industry Classification System (NAICS) Code. The SBA Size Standards Tool [https://www.sba.gov/size-standards/] can help you determine the qualifications that apply to your company.

Important Note About the Covid-19 Pandemic

Travel and in-person activities are contingent upon the safety and health conditions in the United States and the mission countries. Should safety or health conditions not be appropriate for travel and/or in-person activities, the Department will consider postponing the event or offering a virtual program in lieu of an in-person agenda. In the event of a postponement, the Department will notify the public and applicants previously selected to participate in this mission will need to confirm their availability but need not reapply. Should the decision be made to organize a virtual program, the Department will adjust fees, accordingly, prepare an agenda for virtual activities, and notify the previous selected applicants with the option to opt-in to the new virtual program.

Mission List: (additional information about each mission can be found at https://www.trade.gov/trade-missions).

U.S. Industry Program at the International Atomic Energy Agency (IAEA) General Conference

Dates: SEPTEMBER 19-22, 2021

Summary

The United States Department of Commerce's (DOC) International Trade Administration (ITA), with participation from the U.S. Departments of Energy and State, is organizing its annual U.S. Industry Program at the International Atomic Energy Agency (IAEA) General Conference, to be held September 19-22, 2021, in Vienna, Austria. The IAEA General Conference is the premier global meeting of civil nuclear policymakers and typically attracts senior officials and industry representatives from all 172 Member States. The U.S. Industry Program is part of the U.S. Department of Commerce's (DOC) Civil Nuclear Trade Initiative, a U.S. Government effort to help U.S. civil nuclear companies identify and capitalize on commercial civil nuclear opportunities around the world. The purpose of the program is to help the U.S. nuclear industry promote its services and technologies to an international audience, including senior energy policymakers from current and emerging markets as well as IAEA staff.

Representatives of U.S. companies from across the U.S. civil nuclear supply chain are eligible to participate. In addition, organizations providing related services to the industry, such as universities, research institutions, and U.S. civil nuclear trade associations, are eligible for participation. The mission will help U.S. participants gain market insights, make industry contacts, solidify business strategies, and identify or advance specific projects with the goal of increasing U.S. civil nuclear exports to a wide variety of countries interested in nuclear energy.

The schedule includes: Meetings with foreign delegations and discussions with senior U.S. Government officials on important civil nuclear topics including regulatory, technology and standards, liability, public acceptance, export controls, financing, infrastructure development, and R&D cooperation. Past U.S. Industry Programs have included participation by the U.S. Secretary of Energy, the Chairman of the U.S. Nuclear Regulatory Commission (NRC) and senior U.S. Government officials from the Departments of Commerce, Energy, State, the Export-Import Bank of the United States, and the National Security Council.

There are significant opportunities for U.S. businesses in the global civil nuclear energy market. With 52 reactors currently under construction in 15 countries and 160 nuclear plant projects planned in 27 countries over the next 8-10 years, this translates to a market demand for equipment and services totaling $500-740 billion over the next ten years.

Proposed Timetable

****Note that specific events and meeting times have yet to be confirmed****

Sunday, September 19, 2021

3:00 p.m.-5:00 p.m. 1-1 Showtime Meetings with visiting ITA Staff

6:00 p.m.-8:00 p.m. U.S. Industry Welcome Reception

Monday, September 20, 2021

7:00 a.m. Industry Program Breakfast Begins

8:00-9:45 a.m. U.S. Policymakers Roundtable

9:45-10:00 a.m. Break

10:00-11:00 a.m. USG Dialogue with Industry

11:00 a.m.-6:00 p.m. IAEA Side Events

11:00 a.m.-12:30 p.m. Break

12:30-6:00 p.m. Country Briefings for Industry Delegation (presented by foreign delegates)

7:30-9:30 p.m. U.S. Mission to the IAEA Reception

Tuesday, September 21, 2021

9:00 a.m.-6:00 p.m. Country Briefings for Industry (presented by foreign delegates)

10:00 a.m.-6:00 p.m. IAEA Side Event Meetings

Wednesday, September 22, 2021

9:00 a.m.-6:00 p.m. Country Briefings for Industry (presented by foreign delegates)

10:00 a.m.-6:00 p.m. IAEA Side Event Meetings

Participation Requirements

All parties interested in participating in the trade mission must complete and submit an application package for consideration by the DOC. All applicants will be evaluated on their ability to meet certain conditions and best satisfy the selection criteria as outlined below. A minimum of 15 and maximum of 50 companies and/or trade associations and/or U.S. academic and research institutions will be selected to participate in the mission from the applicant pool. The first ten applicants will be permitted to send two representatives per organization (if desired). After the first ten applicants, additional representatives will be permitted only if space is available. Participating companies may send more than two participants if space permits. The Department of Commerce will evaluate applications and inform applicants of selection decisions after publication in the Federal Register and on a rolling basis thereafter until the maximum number of participants has been selected.

Fees and Expenses

After a company or organization has been selected to participate on the mission, a payment to the DOC in the form of a participation fee is required. The fee covers ITA support to register U.S. industry participants for the IAEA General Conference. Expenses for travel, lodging, meals, and incidentals will be the responsibility of each mission participant. Interpreter and driver services can be arranged for additional cost. Participants will be able to take advantage of discounted rates for hotel rooms.

• The fee to participate in the event is $5,200 for a large company and $4,870 for a small or medium-sized company (SME),¹ a trade association, or a U.S. university or research institution. The fee for each additional representative (large company, trade association, university/research institution, or SME) is $2,000.

¹ An applicant is a small or medium-sized enterprise (SME) if it qualifies under the Small Business Administration's (SBA) size standards [https://www.sba.gov/document/support--table-size-standards], which vary by North American Industry Classification System (NAICS) Code. The SBA Size Standards Tool [https://www.sba.gov/size-standards/] can help you determine the qualifications that apply to your company.

Timeframe for Recruitment and Application

Mission recruitment will be conducted in an open and public manner, including publication in the Federal Register, posting on the Commerce Department trade mission calendar (https://www.trade.gov/trade-missions-schedule) and other internet websites, press releases to general and trade media, direct mail, notices by industry trade associations and other multiplier groups, and publicity at industry meetings, symposia, conferences, and trade shows. Recruitment for the mission will begin immediately and conclude no later than July 16, 2021. The U.S. Department of Commerce will review applications and inform applicants of selection decisions on a rolling basis. Applications received after July 16, 2021, will be considered only if space and scheduling constraints permit. If the trade mission cannot be held due to the Covid-19 global pandemic, the event will be postponed to the September 2022 IAEA General Conference. ITA will notify participants by July 30, 2021 regarding a decision to postpone the event.

Contacts

Jonathan Chesebro, Industry & Analysis, Office of Energy and Environmental Industries, Washington, DC, Tel: (202) 603-4968, Email: jonathan.chesebro@trade.gov

Sagatom Saha, Industry & Analysis, Office of Energy and Environmental Industries, Washington, DC, Tel: (202) 843-2376, Email: sagatom.saha@trade.gov

U.S. Environmental Technologies Trade Mission to Latin America

Dates: October 21-29, 2021

Summary

The United States Department of Commerce, International Trade Administration, U.S. Commercial Service is organizing the “U.S. Environmental Technologies Trade Mission to Latin America” from October 21-29, 2021.

The Environmental Technologies Trade Mission to Latin America is intended to include representatives from a variety of U.S. solid waste and recycling, and water and wastewater technology manufacturers and service providers and associations and trade organizations. The trade mission will introduce the participants to foreign government experts and decision makers, service providers, end-users, and prospective partners whose needs and capabilities are best suited to each U.S. participant's strengths. Participating in an official U.S. industry delegation, rather than traveling to Mexico, Ecuador or Peru individually will enhance the participants' ability to secure key business and government meetings in Latin America and to also more effectively promote U.S. goods and services to a wider yet targeted audience. The meetings will match the delegates with potential business partners, distributors or importers in these three markets. Moreover, key local industry leaders will brief mission participants on local market conditions, needs and opportunities in the various regions, and domestic regulatory and policy issues that impact environmental technologies.

The Trade Mission will commence with a trip to Ecuador for solid waste management and recycling technology providers. The spin-off trip to Ecuador will provide mission participants with business-to-business (B2B) meetings and meetings with relevant ministries to learn of the new government's solid waste and recycling priorities. Following the spin-off in Ecuador, all participants will convene in Mexico City for an Environmental Technologies Summit, which will benefit both U.S. solid waste management and recycling firms, as well as U.S. water and wastewater technology providers. This central event will include presentations from government and private sector leaders on opportunities in Mexico, B2B matchmaking, and networking opportunities.

Following the summit in Mexico City, water and wastewater technology providers will have the option for a spin-off to Peru to participate in the ExpoAgua Show—the premiere water expo in Peru that offers the latest technological innovations and solutions for the sustainable and productive management of water. The event brings together leading companies, international experts, and government decision makers from both within Peru and the greater South American region. The United States has been selected as host country for 2021 (and was also host nation for the successful virtual show in 2020). This designation ensures premiere booth positioning at the event, special informational sessions for each U.S. participant and high-level engagements with Peruvian government officials and U.S. Embassy leadership. Special B2B meetings will also be organized. The Show has been certified under the U.S. Department of Commerce Trade Event Partnership Program. We are currently working with the show organizers on special pricing for U.S. Mission attendees who desire to participate. It is anticipated that a delegation of water technology buyers from Ecuador will also attend Peru's ExpoAgua Show and be available to meet with the mission participants.

Proposed Timetable

Quito—October 21-23, 2021 (Waste Technology Spin-Off)

* * * Note: Flights arriving and departing Quito from most international locations are red eye flights. COVID-related curfews may cause changes in flight arrival and departure times.

Thursday, October 21, 2021

1:00 a.m. Trade Mission Participants Arrive in Quito

10:00 a.m. Breakfast at American Chamber of Commerce with U.S. Embassy Country Briefing

11:30 a.m. Meeting with Federal and/or Municipal Government Officials on Solid Waste Management and Recycling Needs

3:00 p.m. Panel on Solid Waste Management and Recycling Opportunities in Ecuador

7:00 p.m. Networking Event

Friday, October 22, 2021

10:00 One-on-one Matchmaking Meetings for U.S. Companies

14:00 Site Visit to Quito's El Inga Landfill with Metropolitan Public Company for Comprehensive Solid Waste Management (EMGIRS-EP) Authorities

Saturday, October 23, 2021

01:00 Travel to Mexico City

Mexico City—October 23-26, 2021

October 23-24, 2021

Trade Mission Participants arrive in Mexico

Some participants will travel from Ecuador after the first optional stop of the mission.

Sunday, October 24, 2021

Dinner and U.S. Embassy Briefing for Trade Mission Participants

Monday, October 25, 2021

Environmental Technologies Summit and Individual Matchmaking Services for U.S. Companies

Mexican Environmental Technologies Summit

8:00 a.m. to 1:00 p.m.

Tentative Venue: National Chamber of the Construction Industry (CMIC)

8:00 a.m.

Registration

Coffee Break and Networking

9:00 a.m.

Opening Remarks

Panels:

9:30 a.m.-10:30 a.m.

Opportunities in the Water and Wastewater Industries

—Overview of the Water and Wastewater Industries

—CONAGUA's 2020-24 National Water Program

10:30 a.m.-11:30 a.m.

Technology Opportunities for Solid Waste Management and Recycling

—Overview of Solid Waste Management in Mexico

—2021-2030 Climate Action Program for Mexico City

—Opportunities to Treat Hazardous Waste—Medical Waste after COVID-19

Break: 11:30 a.m.- 12:00 p.m.

12:00 p.m.-1:00 p.m.

Environmental Opportunities in the U.S. Mexico Border Region

—USMCA

—North American Development Bank or World Bank

—Common Concerns and Upcoming Initiatives

1:00 p.m.-2:00 p.m. Lunch at CMIC or hotel nearby

2:00 p.m.-5:00 p.m. One-on-one Gold Key Service matchmaking meetings

Tuesday, October 26, 2021

Water and Recycling site visits for U.S. companies.

7:30 a.m. Depart from hotel to Cuernavaca

9:00 a.m. Arrive in Morelos

9:00 a.m. Breakfast and briefing for site visits

10:00 a.m. Site visits—Mexican Water Technology Institute and visit to Recycling Facility

12:00 p.m. Depart to Mexico City Airport

12:30 p.m. Brief stop at Italian Coffee (to go)

1:30 p.m. Arrive to Mexico City Airport

Flights Departing from Mexico City to Lima:

• LATAM 4:45 p.m.

• Copa Airlines 4:31 p.m.

• Avianca 3:50 p.m.

Lima—October 27-October 29, 2021 (Water Technology Spin-Off)

Tuesday, October 26, 2021

Arrive in Lima

Wednesday, October 27, 2021

7:30 a.m. (TBD) Hotel or Embassy—Briefing about Peru

10:00 a.m. Participation of the Expo Agua Opening with US Ambassador (TBD) and Peruvian Government Officials

11:30 a.m. Official toast at the U.S. pavilion with Ambassador (TBD) and Peruvian Government officials

1:00-5:00 p.m. Networking at Expo Agua

Thursday, October 28, 2021

10:00 a.m. Participation at the SCP “American Day”

3:00 p.m. Networking at Expo Agua

7:00 p.m. Reception at Expo Agua

Friday, October 29, 2021

10:00 a.m. Further Networking at the Show

Participation Requirements

All parties interested in participating in the Trade Mission to Latin America must complete and submit an application to the Department of Commerce for consideration. All applicants will be evaluated on their ability to meet certain conditions and best satisfy the selection criteria as outlined below. A minimum of ten (10) and a maximum of twelve (12) companies will be selected to participate in the Trade Mission from the applicant pool for the Mexico summit. The target number of companies for Ecuador is four (4) and for Peru is five (5). U.S. companies already doing business in Latin America as well as U.S. companies seeking to enter the markets for the first time may apply.

Fees and Expenses

After a company or organization has been selected to participate on the mission, a payment to the Department of Commerce in the form of a participation fee is required. The participation fee for the Environmental Technologies Trade Mission to Latin America will be as outlined below for small-medium sized enterprises (SME) ² and for large firms or trade associations. The fee for each additional firm representative (large firm or SME/trade organization) is $150 per mission stop. Expenses for travel, lodging, meals, and incidentals will be the responsibility of each mission participant. Interpreter and driver services can be arranged for additional cost. Delegation members will be able to take advantage of U.S. Embassy rates for hotel rooms.

² For purposes of assessing participation fees, an applicant is a small or medium-sized enterprise (SME) if it qualifies under the Small Business Administration's (SBA) size standards (https://www.sba.gov/document/support--table-size-standards), which vary by North American Industry Classification System (NAICS) Code. The SBA Size Standards Tool [https://www.sba.gov/size-standards/] can help you determine the qualifications that apply to your company.

| Cost for SME | Cost for large business
Mexico Summit and Trade Mission Stop | $2,100 | $2,700
Ecuador Spin-Off with Matchmaking (Optional) | 1,650 | 3,300
Peru Spin-Off with Exhibit Option and Networking (Optional) | 1,650 | 1,800
Peru Spin-Off with Networking Only (Optional) | 1,200 | 1,300
Additional Company Representative (Per Mission Stop) | 150 | 150

Timeframe for Recruitment and Application

Mission recruitment will be conducted in an open and public manner, including publication in the Federal Register, posting on the Commerce Department trade mission calendar and other internet websites, press releases to general and trade media, direct mail, notices by industry trade associations and other multiplier groups, and publicity at industry meetings, symposia, conferences, and trade shows. Recruitment for the mission will begin immediately and conclude no later than June 30, 2021. The U.S. Department of Commerce will review applications and make selection decisions on a rolling basis. Applications received after the June 30, 2021 deadline will be considered only if space and scheduling constraints permit.

Contacts

U.S. Commercial Service—Global Environmental Technologies Team:

Elizabeth Laxague, Global Environmental Technologies Team—Water Technologies Deputy Team Leader, U.S. Commercial Service, Milwaukee, 414-336-1953, Elizabeth.Laxague@trade.gov

Ryan Russell, Global Environmental Technologies Team Leader, U.S. Commercial Service, Pittsburgh, 412-644-2817, Ryan.Russell@trade.gov

Amy Kreps, Senior Environmental Technology Trade Specialist, I&A Office of Energy and Environmental Industries U.S. Department of Commerce|International Trade Administration, amy.kreps@trade.gov, 202-603-4765

U.S. Commercial Service in Mexico:

Braeden Young, Commercial Officer and Regional Standards Attaché, braeden.young@trade.gov

Francisco Ceron, Senior Commercial Specialist (Water Sector), francisco.ceron@trade.gov

Claudia Salgado, Commercial Specialist (Solid Waste and Recycling), claudia.salgado@trade.gov

Alejandra Calderon, Commercial Assistant, alejandra.calderon@trade.gov

U.S. Department of State in Ecuador:

Sofía Zárate, Commercial Specialist (Solid Waste and Recycling), zaratesc@state.gov

U.S. Commercial Service in Peru:

Jorge Prado, Commercial Specialist, Jorge.Prado@trade.gov

Digital Transformation Business Development Mission to the GCC Region

Dates: October 24-28, 2021

Summary

The International Trade Administration (ITA) is leading a business development mission to the Gulf Cooperation Council (GCC) countries of Saudi Arabia, Kuwait, and Qatar, with an optional stop in the United Arab Emirates (UAE) October 24-28, 2021.

The mission will visit Riyad, Saudi Arabia, Kuwait City, Kuwait, Doha, Qatar, along with an optional stop in Dubai, UAE. The purpose of the mission is to increase U.S. exports to the GCC by connecting U.S. firms and trade associations to pre-screened business prospects. The mission will focus on the information and communication technology (ICT) subsectors of cybersecurity, smart city infrastructure and technology solutions, artificial intelligence markets, and cloud computing. The delegation will be comprised of representatives with decision-making authority from U.S. companies and U.S. trade associations operating in these sectors.

Delegates will benefit from the guidance and insights of ITA's commercial teams working in these markets, opportunities to network with U.S. companies already doing business in the region, and customized, one-on-one business appointments with pre-screened prospective buyers, agents, distributors, and joint venture partners as well as with local government officials and industry leaders.

Proposed Timetable:

* Note: The final schedule and potential site visits will depend on the availability of host government and business officials, specific goals of mission participants, and ground transportation.

Thursday, October 21 | • OPTIONAL STOP—Dubai, UAE.
| • Welcome and UAE Country Briefing.
| • Ministry and other UAE Government Briefings and Meetings.
| • Networking Lunch (No-Host).
| • One-on-One business matchmaking appointments.
| • Reception in the U.S. Pavilion at the Dubai Expo.
Friday, October 22 | • Open.
Saturday, October 23 | • Travel to Riyad, Saudi Arabia.
| • Trade Mission Participants Arrive in Riyad, Saudi Arabia.
Sunday October 24 | • Welcome and Saudi Arabia Country Briefing.
| • Ministry and other Saudi Government Briefings and meetings.
| • Networking Lunch Hosted by AmCham Riyadh.
| • One-on-One business matchmaking appointments.
| • Networking Reception at AMB residence (TBC).
Monday, October 25 | • One-on-One business matchmaking appointments.
| • Travel to Kuwait City.
Tuesday, October 26 | • Travel to Kuwait City, Kuwait.
| • Welcome and Kuwait Country Briefing.
| • Ministry and other Kuwait Government Briefings and Meetings.
| • Networking Lunch (No-Host).
| • One-on-One business matchmaking appointments.
| • Networking Reception at AMB residence (TBC).
Wednesday, October 27 | • One-on-One business matchmaking appointments.
| • Travel to Doha, Qatar.
| • Welcome and Qatar Country Briefing.
| • One-on-One business matchmaking appointments.
| • Networking Lunch (No-Host).
| • One-on-One business matchmaking appointments.
Thursday, October 28 | • One-on-One business matchmaking appointments.
| • Networking Lunch (No-Host).
| • Trade Mission concludes.

Participation Requirements

All parties interested in participating in the trade mission must complete and submit an application package for consideration by the DOC. All applicants will be evaluated on their ability to meet certain conditions and best satisfy the selection criteria as outlined below. A minimum of 12 and maximum of 20 firms and/or trade associations will be selected to participate in the mission from the applicant pool.

Fees and Expenses

After a firm or trade association has been selected to participate on the mission, a payment to the Department of Commerce in the form of a participation fee is required. The participation fee for the Digital Transformation Business Development Mission will be $3,650 for small or medium-sized enterprises (SME); ³ and $4,400 for large firms or trade associations. The fee for each additional firm representative (large firm or SME/trade organization) is $1,000. The participation fee for the optional spin-off to the UAE will be $2,900 for small or medium-sized enterprises (SME); ⁴ and $3,250 for large firms or trade associations. Expenses for travel, lodging, meals, and incidentals will be the responsibility of each mission participant. Interpreter and driver services can be arranged for additional cost. Delegation members will be able to take advantage of U.S. Embassy rates for hotel rooms.

³ For purposes of assessing participation fees, an applicant is a small or medium-sized enterprise (SME) if it qualifies under the Small Business Administration's (SBA) size standards (https://www.sba.gov/document/support--table-size-standards), which vary by North American Industry Classification System (NAICS) Code. The SBA Size Standards Tool [https://www.sba.gov/size-standards/] can help you determine the qualifications that apply to your company.

⁴ For purposes of assessing participation fees, an applicant is a small or medium-sized enterprise (SME) if it qualifies under the Small Business Administration's (SBA) size standards (https://www.sba.gov/document/support--table-size-standards), which vary by North American Industry Classification System (NAICS) Code. The SBA Size Standards Tool [https://www.sba.gov/size-standards/] can help you determine the qualifications that apply to your company.

Timeframe for Recruitment And Application

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows. Recruitment for the mission will begin immediately and conclude no later than June 30, 2021. The U.S. Department of Commerce will review applications and inform applicants of selection decisions on a rolling basis. Applications received after June 30, 2021, will be considered only if space and scheduling constraints permit.

Contacts

Ludwika Alvarez, Senior International Trade Specialist, U.S. Commercial Service, International Trade Administration | U.S. Department of Commerce, San Francisco, CA, Tel: 415-517-0265, Ludwika.Alvarez@trade.gov

Tatyana Aguirre, Commercial Consul, U.S. Consulate Dhahran, U.S. Commercial Service, International Trade Administration | U.S. Department of Commerce, Mobile: +1949 557 7664, Tatyana.Aguirre@trade.gov

Office of Middle East, Drew Pederson, Desk Officer for Kuwait, Oman, and the UAE, International Trade Administration, U.S. Department of Commerce, Tel: 202-569-7479, Drew.Pederson@trade.gov

Trade Mission to South America in Conjunction With Trade Americas—Business Opportunities in South America Conference

Dates: December 5-10, 2021

Summary

The United States Department of Commerce, International Trade Administration is organizing a trade mission to Argentina, Brazil, Bolivia, Chile, Colombia, Guyana, Peru, Paraguay, Suriname, and Uruguay (South America) that will include the Trade Americas—Business Opportunities in South America Conference in São Paulo, Brazil. Trade mission participants will arrive in São Paulo on or before December 5th for the Trade Americas—Business Opportunities in South America Conference. On the first day of the conference participants will attend a mission briefing and engage in one-on-one consultations with U.S. diplomats and staff from the U.S. Embassies in South America as well as key service providers and other resources. On December 6th, the Trade Americas—Business Opportunities in South America Conference will include educational sessions covering regional-specific information, market access, logistics and trade financing resources as well as pre- arranged one-one-one consultations with US&FCS Commercial Officers and/or Department of State Economic/Commercial Officers with expertise in commercial markets throughout the region. Mission participants will also have the opportunity to network with foreign buyers, industry associations, and local governments in the evening. The following day, December 7th, selected trade mission participants will engage in business-to-business appointments in Brazil or will travel to one or maximum two markets in South America. All business-to-business appointments in the region will be with pre-screened potential buyers, agents, distributors or joint- venture partners.

The mission is open to U.S. firms from a cross section of industries with growing potential in South America, but is focused on U.S. firms representing best prospects sectors such as infrastructure and construction, architecture services, engineering services, construction equipment, building products, airports, ports, transportation, housing, environmental technologies, safety & security, energy & oil & gas, mining equipment, medical equipment, aerospace & defense, ICT & digital services, and logistics. The mission will also place a special emphasis on serving small and medium-sized enterprise (SME) clients and helping to raise awareness of opportunities in smaller, often overlooked markets in the region, including regional markets within Brazil.

The combination of participation in the Trade Americas—Business Opportunities in South America Conference and business-to-business matchmaking appointments in up-to two countries will provide participants with access to substantive information about the region and strategies for entering or expanding their business across South America.

Proposed Timetable:

* Note: The final schedule and potential site visits will depend on the availability of host government and business officials, specific goals of mission participants, and ground transportation.

Saturday, December 4, 2021 | Travel Day/Arrival in São Paulo. Optional Local Tour.
Sunday, December 5, 2021 | São Paulo, Brazil. Afternoon: Registration, Briefing and U.S. Embassy Officer Consultations. Evening: Networking Reception.
Monday, December 6, 2021 | São Paulo, Brazil. Morning: Registration and Trade Americas—Business Opportunities in South America Conference. Afternoon: U.S. Embassy Officer Consultations. Evening: Networking Reception.
Optional:
Tuesday-Friday, December 7-10, 2021 | Travel and Business-to-Business Meetings in (choice of two markets): Option (A) Brazil. Option (B) Argentina. Option (C) Bolivia. Option (D) Chile. Option (E) Colombia. Option (F) Guyana. Option (G) Peru. Option (H) Paraguay. Option (I) Suriname. Option (J) Uruguay.)
Saturday, December 11, 2021 | Travel Day.

Participation Requirements

All parties interested in participating in the U.S. Department of Commerce Trade Mission to South America must complete and submit an application package for consideration by the Department of Commerce. All applicants will be evaluated on their ability to meet certain conditions and best satisfy the selection criteria as outlined below. A minimum of 30 and a maximum of 50 firms and/or trade associations will be selected to participate in the mission on a first come first serve basis. During the registration process, applicants will be able to select the countries from which they would like to receive a brief market assessment. Once they receive their brief market assessment report, they will be able to select up to two markets in which they would like to travel for their business to business meetings.

All selected participants will attend the conference in Brazil and will have business-to-business meetings in up-to two markets in the region.

The number of firms that may be selected for each country are as follows: 10 firms for Argentina; 5 firms for Bolivia; 40 firms for Brazil; 10 firms for Chile; 10 firms for Colombia; 10 firms for Guyana; 12 firms for Peru; 5 firms for Paraguay; 5 firms for Suriname; and 5 firms for Uruguay.

The trade mission is open to U.S. firms already doing business in the region who are seeking to expand their market share and to those U.S. firms new to the region.

Fees and Expenses

After a firm or trade association has been selected to participate on the mission, a payment to the Department of Commerce in the form of a participation fee is required.

For business-to-business meetings in one market, the participation fee will be $2,800 for a small or medium-sized enterprises (SME) [1] and $4,000 for large firms.

For business-to-business meetings in two markets, the participation fee will be $3,800 for a small or medium-sized enterprises (SME) [1] and $5,000 for large firms.

The mission participation fee includes the Trade Americas—Business Opportunities in South America Conference registration fee of $650 per participant from each firm.

There will be a $300 fee for each additional firm representative (large firm or SME) that wishes to participate in business-to-business meetings in any of the markets selected.

Expenses for travel, lodging, meals, and incidentals will be the responsibility of each mission participant. Delegation members will be able to take advantage of U.S. Embassy rates for hotel rooms.

Timeframe for Recruitment and Application

Mission recruitment will be conducted in an open and public manner, including publication in the Federal Register, posting on the Commerce Department trade mission calendar on www.export.gov, the Trade Americas web page at http://export.gov/tradeamericas/index.asp, and other internet websites, press releases to the general and trade media, direct mail and broadcast fax, notices by industry trade associations and other multiplier groups and announcements at industry meetings, symposia, conferences, and trade shows. Recruitment for the mission will begin immediately and conclude no later than Friday, September 17, 2021. The U.S. Department of Commerce will review applications and make selection decisions on a rolling basis until the maximum of 50 participants are selected. After September 17, 2021, firms will be considered only if space and scheduling constraints permit.

Contacts

U.S. Trade Americas Team Contact Information

Laura Krishnan, International Trade Specialist, Office of Latin America and the Caribbean—International Trade Administration—Washington, DC, laura.krishnan@trade.gov, Tel: 202-482-4187

Diego Gattesco, Director, U.S. Commercial Service Wheeling, WV, Diego.Gattesco@trade.gov

Southern America Region Contact Information

Renato Sabaine, Commercial Specialist—U.S. Commercial Service São Paulo, Brazil, renato.sabaine@trade.gov

EJ Richardson, Commercial Officer—U.S. Commercial Service São Paulo, Brazil, Elmer.Richardson@trade.gov

Clean Air Trade Mission to India

Dates: MAY 2-5, 2021

Summary

The Clear Air Trade Mission delegation will assist U.S. companies in the environmental technologies industry to identify export opportunities in India. The mission will focus on environmental technology subsectors specifically related to air quality, monitoring, pollution control and weather forecasting—all key issues in India impacting environmental and public health, as well as economic development. Delegates will gain market insights, make industry contacts, meet with government agencies, solidify business strategies, and advance specific projects.

The mission will include group interaction with government agencies, customized one-on-one business appointments with pre-screened potential agents, distributors, partners, and buyers. It will also include networking events offering introductions with state and local government officials, industry leaders, and senior officials from the U.S. Embassy in Delhi and U.S. Consulates around India.

The trade mission will include stops in New Delhi and Kolkata, with an optional stop in Mumbai.

Proposed Timetable:

* Note: The final schedule and potential site visits will depend on the availability of host government and business officials, specific goals of mission participants, and ground transportation.

Monday, May 2, 2022 | • Trade Mission Participants Arrive in New Delhi, India.
Tuesday, May 3, 2022 | • Plenary Session—U.S. Embassy officials' welcome delegation.
| • Market Briefing: The Environmental Sector in India—Opportunities and ChallengeB2B and B2G Meetings with CPCB, Ministry of Environment & Forest; NTPC in Delhi.
| • Site Visit.
Wednesday, May 4, 2022 | • Roundtable with USIBC/USISPF.
| • Evening Flight to Kolkata.
Thursday, May 5, 2022 | • Consulate briefing.
| • B2G Meetings with West Bengal Pollution Control Board.
| • Luncheon with selected power sector companies.
| • End-user industry roundtable with chamber of commerce.
| • Evening reception.
Friday, May 6, 2022 | • Depart Kolkata, arrive Mumbai (optional stop depending on interest from delegation).
| • Optional B2B and B2G Meetings.
Saturday, May 7, 2022 | • B2B Meetings in Mumbai.
| • Meetings with Pollution Control Board or other government agencies.
| • Late evening departure for United States.

Participation Requirements

All parties interested in participating in the trade mission must complete and submit an application package for consideration by the DOC. All applicants will be evaluated on their ability to meet certain conditions and best satisfy the selection criteria as outlined below. A minimum of eight and maximum of ten firms and/or trade associations will be selected to participate in the mission from the applicant pool.

Fees and Expenses

After a firm or trade association has been selected to participate on the mission, a payment to the Department of Commerce in the form of a participation fee is required. The participation fee for the Clean Air Trade Mission to India will be $3,165 for small or medium-sized enterprises (SME); ⁵ and $4,495 for large firms or trade associations. The fee for each additional firm representative (large firm or SME/trade organization) is $750. Expenses like travel, lodging, meals, and incidentals will be the responsibility of each mission participant. Interpreter and driver services can be arranged for additional cost. Delegation members will be able to take advantage of U.S. Embassy rates for hotel rooms. Companies opting for spin-off to Mumbai will pay an additional fee of $1,625.

⁵ For purposes of assessing participation fees, an applicant is a small or medium-sized enterprise (SME) if it qualifies under the Small Business Administration's (SBA) size standards (https://www.sba.gov/document/support--table-size-standards), which vary by North American Industry Classification System (NAICS) Code. The SBA Size Standards Tool [https://www.sba.gov/size-standards/] can help you determine the qualifications that apply to your company.

Timeframe for Recruitment and Application

Mission recruitment will be conducted in an open and public manner, including publication in the Federal Register, posting on the Commerce Department trade mission calendar (http://export.gov/trademissions) and other internet websites, press releases to general and trade media, direct mail, notices by industry trade associations and other multiplier groups, and publicity at industry meetings, symposia, conferences, and trade shows. Recruitment for the mission will begin immediately and conclude no later than March 15, 2022. The U.S. Department of Commerce will review applications and inform applicants of selection decisions on a rolling basis. Applications received after March 15, 2022, will be considered only if space and scheduling constraints permit.

Contacts

Geoffrey Parish, Principal Commercial Officer, North India, U.S. Commercial Service, New Delhi, India, Tel: +91-11-2347 2000, Email: geoffrey.parish@trade.gov

Jing Liu, Commercial Officer, U.S. Commercial Service, New Delhi, India, Tel: +91-11-2347 2000, Email: jing.liu@trade.gov

Arup Mitra, Senior Commercial Specialist, U.S. Commercial Service, Kolkata, Tel: +91-11-2347 2000, Email: arup.mitra@trade.gov

Haisum Shah, International Trade Specialist, U.S. Commercial Service—Oregon & SW Washington, Tel: +1 503-347-1708, Email: haisum.shah@trade.gov

Dated: April 19, 2021.
Gemal Brangman,
Senior Advisor, Trade Missions, ITA Events Management Task Force.

[FR Doc. 2021-08443 Filed 4-22-21; 8:45 am]

BILLING CODE 3510-DR-P